FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (www.fmc.gov) or contacting the Office of Agreements at (202) 523-5793 or tradeanalysis@fmc.gov.

Agreement No.: 011539-015.

Title: CLNU/HLAG Space Charter and Sailing Agreement.

Parties: Companhia Libra de Navegacao (Libra); Compania Sud Americana de Vapores, S.A. (CSAV); Compania Libra de Navegacion Uruguay S.A.; and Hapag-Lloyd AG.

Filing Party: Walter H. Lion, Esq., McLaughlin & Stern, LLP, 260 Madison Avenue, New York, NY 10016.

Synopsis: The amendment adds Libra and CSAV as parties to the agreement and changes the name of the agreement to CSAV Group/HLAG Space Charter and Sailing Agreement.

Agreement No.: 011579-014.

Title: Inland Shipping Service Association Agreement.

Parties: Crowley Liner Services, Inc.; Seaboard Marine, Ltd. and Seaboard Marine of Florida, Inc.

Filing Party: Wayne R. Rohde, Esq., Sher & Blackwell, 1850 M Street, NW., Suite 900, Washington, DC 20036.

Synopsis: The amendment deletes APL Co. Pte Ltd. as a party to the Agreement.

Agreement No.: 012055.

Title: Maersk Line/CMA CGM Cooperative Working Agreement.

Parties: A.P. Moller-Maersk A/S, and CMA CGM S.A.

Filing Party: Wayne R. Rohde, Esq., Sher and Blackwell LLP, 1850 M Street, NW., Suite 900, Washington, DC 20036.

Synopsis: The agreement authorizes the parties to solicit bids, negotiate and enter into joint contracts for provisions of marine terminal facilities and services in the trade between Asia and the United States.

Agreement No.: 201199.

Title: Port Fee Services Agreement.

Parties: City of Los Angeles; City of Long Beach; PortCheck LLC; APM Terminals Pacific Ltd.; Eagle Marine Services, Ltd.; Long Beach Container Terminal, Inc.; Total Terminals International; California United Terminals, Inc.; International Transportation Service, Inc.; Seaside Transportation Service, LLC; West Basin Container Terminal LLC; Pacific Maritime Services, LLC; SSA Terminal (Long Beach), LLC; Trans Pacific Container Service Corporation; SSA Terminals, LLC; and Yusen Terminals, Inc.

Filing Party: David F. Smith, Esq., Sher & Blackwell, LLP, 1850 M Street, NW., Suite 900, Washington, DC 20036; C. Jonathan Benner, Esq., and Matthew J. Thomas, Esq., Troutman and Sanders, LLP, 401 9th Street, NW., Suite 1000, Washington, DC 20004-2134.

Synopsis: The agreement authorizes Port Check LLC and the marine terminal operators to provide certain services to the ports relating to the collection of a clean truck fee, control of access to port property, and related activities.

By the Commission.
Dated: November 7, 2008.
Karen V. Gregory,
Secretary.

[FR Doc. E8-26985 Filed 11-12-08; 8:45 am]

BILLING CODE 6730-01-P